DEPARTMENT OF HEALTH AND HUMAN SERVICES

Centers for Disease Control and Prevention

National Center for Environmental Health/Agency for Toxic Substances and Disease Registry

The Health Department Subcommittee of the Board of Scientific Counselors (BSC), Centers for Disease Control and Prevention (CDC), National Center for Environmental Health/Agency for Toxic Substances and Disease Registry: Teleconference Meeting.

In accordance with section 10(a)(2) of the Federal Advisory Committee Act (Pub. L. 92-463), The National Center for Environmental Health/Agency for Toxic Substances and Disease Registry (NCEH/ATSDR), CDC announces the following subcommittee teleconference meeting:

Name: Health Department Subcommittee (HDS), BSC, NCEH/ATSDR.

Time and Date: 1 p.m.-2:30 p.m., March 15, 2006.

Place: Century Center, 1825 Century Boulevard, Atlanta, Georgia 30345.

Status: Open to the public, teleconference access limited only by availability of telephone ports.

Purpose: Under the charge of the BSC, NCEH/ATSDR the Health Department Subcommittee will provide the BSC, NCEH/ATSDR with advice and recommendations on local and state health department issues and concerns that pertain to the mandates and mission of NCEH/ATSDR.

Matters to be Discussed: The meeting agenda will include a discussion of NCEH/ATSDR's inventory list of environmental health training activities; a discussion of the Office of Workforce and Career Development; a discussion on the list of Environmental Health training activities being conducted by groups other than CDC; and a discussion on formulating possible recommendations to the BSC.

Items are subject to change as priorities dictate.

Supplementary Information: To participate in the meeting, public comment period will be from 2-2:10 p.m. Eastern Standard Time. Dial (877) 315-6535 and enter conference code 383520.

For Further Information Contact: Shirley D. Little, Committee Management Specialist, NCEH/ATSDR, 1600 Clifton Road, Mail Stop E-28, Atlanta, GA 30303; telephone 404/498-0003, fax 404/498-0059; E-mail: slittle@cdc.gov.

The Director, Management Analysis and Services Office, has been delegated the authority to sign Federal Register notices pertaining to announcements of meetings and other committee management activities for both CDC and NCEH/ATSDR.

Dated: February 24, 2006.
Alvin Hall,
Director, Management Analysis and Services Office, Centers for Disease Control and Prevention.

[FR Doc. E6-3025 Filed 3-2-06; 8:45 am]

BILLING CODE 4163-18-P